ENVIRONMENTAL PROTECTION AGENCY

[FRL-8914-6]

Science Advisory Board Staff Office; Notification of an Upcoming Meeting of the Science Advisory Board Committee on EPA's Report on the Environment

AGENCY: Environmental Protection Agency (EPA).

ACTION: Notice.

SUMMARY: The Environmental Protection Agency (EPA or Agency) Science Advisory Board (SAB) Staff Office announces a public meeting of the SAB Advisory Committee on EPA's Report on the Environment. The Committee will conduct a consultation on proposed approaches to developing future versions of EPA's Report on the Environment.

DATES: The meeting dates are Tuesday, June 30, 2009 from 9 a.m. to 5 p.m. (Eastern Time) and Wednesday, July 1, 2009 from 8:30 a.m. to 12 noon. (Eastern Time).

ADDRESSES: The meeting will be held at the SAB Conference Center, 1025 F Street, NW., Room 3705, Washington, DC 20004.

FOR FURTHER INFORMATION CONTACT: Members of the public who wish to obtain further information about this meeting must contact Dr. Thomas Armitage, Designated Federal Officer (DFO). Dr. Armitage may be contacted at the EPA Science Advisory Board (1400F), U.S. Environmental Protection Agency, 1200 Pennsylvania Avenue, NW., Washington, DC 20460; or via telephone/voice mail (202) 343-9995; fax (202) 233-0643; or e-mail at: armitage.thomas@epa.gov. Any inquiry regarding future development of EPA's Report on the Environment should be directed to Dr. Denice Shaw of EPA's National Center for Environmental Assessment at shaw.denice@epa.gov or (703) 347-8628. General information about the EPA SAB, as well as any updates concerning the meeting announced in this notice, may be found on the SAB Web site at http://www.epa.gov/sab.

SUPPLEMENTARY INFORMATION: Pursuant to the Federal Advisory Committee Act, Public Law 92-463, notice is hereby given that the SAB Advisory Committee on EPA's Report on the Environment will hold a public meeting to provide consultative comment on proposed approaches to developing future versions of EPA's Report on the Environment (ROE). The SAB was established by 42 U.S.C. 4365 to provide independent scientific and technical advice to the Administrator on the technical basis for Agency positions and regulations. The SAB is a Federal Advisory Committee chartered under the Federal Advisory Committee Act (FACA), as amended, 5 U.S.C. App. 2. The SAB will comply with the provisions of FACA and all appropriate SAB Staff Office procedural policies.

Background: In May 2008, EPA published its Report on the Environment (hereinafter referred to as ROE 2008). This report is available on the EPA Office of Research and Development Web site at http://cfpub.epa.gov/ncea/cfm/recordisplay.cfm?deid=190806. In the ROE 2008, EPA presented environmental and human health indicator information to represent the status of and trends in the condition of the Nation's environment. EPA intends to use the ROE to: (1) Inform strategic planning, priority setting, and decision making across the Agency, and (2) provide information to enable the public to assess whether EPA is succeeding in its overall mission to protect human health and the environment. Individual chapters in the ROE 2008 provide information on the condition of air, water, and land environments. Two other chapters focus on human health and ecological condition.

The SAB reviewed previous drafts of the ROE dated 2003 and 2007. The findings and recommendations of these SAB reviews are available on the SAB Web site at http://www.epa.gov/sab (see reports EPA-SAB-05-004 and EPA-SAB-08-007). Many SAB comments were incorporated into the ROE 2008, and EPA expects to modify future editions of the ROE based on the long-term recommendations provided by the SAB in its review of the draft ROE 2007. EPA also intends to more directly align information in future editions of the ROE with the goals and objectives in the Agency's Strategic Plan. Therefore, EPA's Office of Research and Development has requested that the SAB provide additional advice over the next few years on how to: (1) Address previous SAB recommendations to improve future editions of the ROE, and (2) make the ROE more useful to the Agency in informing planning and decision making and providing information to the public. To provide this additional advice, the SAB Staff Office formed the ad hoc SAB Advisory Committee on EPA's Report on the Environment. The purpose of the upcoming meeting of this Committee is to provide consultative advice on a white paper that addresses restructuring the ROE in response to previous SAB comments and recommendations. Background information on the process of forming the SAB Advisory Committee on EPA's Report on the Environment was provided in a Federal Register Notice published on July 23, 2008 (73 FR 42801-42802). The roster and biosketches of Committee members are posted on the SAB Web site at http://www.epa.gov/sab.

Availability of Meeting Materials: An EPA discussion paper along with the meeting agenda, charge to the SAB Committee, and other meeting material will be posted on the SAB Web site at https://www.epa.gov/sab in advance of the meeting.

Procedures for Providing Public Input: Interested members of the public may submit relevant written or oral information on the topic of this advisory activity, and/or the group conducting the activity, for the SAB to consider during the advisory process. Oral Statements: In general, individuals or groups requesting an oral presentation at a public meeting will be limited to five minutes per speaker, with no more than a total of one hour for all speakers. Interested parties should contact Dr. Armitage, DFO, in writing (preferably via e-mail) at the contact information noted above by June 23, 2009 to be placed on a list of public speakers for the meeting. Written Statements: Written statements should be received in the SAB Staff Office by June 23, 2009 so that the information may be made available to the SAB Committee members for their consideration. Written statements should be supplied to the DFO in the following formats: One hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Dr. Armitage at the phone number or e-mail address noted above, preferably at least ten days prior to the meeting to give EPA as much time as possible to process your request.

Dated: June 2, 2009.
Vanessa T. Vu,
Director, EPA Science Advisory Board Staff Office.

[FR Doc. E9-13477 Filed 6-8-09; 8:45 am]

BILLING CODE 6560-50-P